ENVIRONMENTAL PROTECTION AGENCY

[EPA R9-2021-06; FRL-9441-01-R9]

Notice of Proposed Administrative Settlement Agreement for Removal Action and Payment of Response Costs by Prospective Lessee at theC-Brite Removal Site in Harbor City; Los Angeles County, California

AGENCY: Environmental Protection Agency (EPA).

ACTION: Notice of proposed settlement; request for public comment.

SUMMARY: In accordance with the Comprehensive Environmental Response, Compensation and Liability Act of 1980, as amended (“CERCLA”), notice is hereby given that the Environmental Protection Agency (EPA), has entered into a proposed settlement, embodied in an Administrative Settlement Agreement for Removal Action and Payment of Response Costs by Prospective Lessee (“Settlement Agreement”), with 1213 253rd, LLC (“Prospective Lessee”), a prospective lessee and purchaser of the real property located at 1213 253rd Street, Harbor City, Los Angeles County, California, known as the Former C-Brite Metal Finishing Facility Site (“C-Brite Site” or “Site”). C-Brite Metal Finishing, Inc. operated a plating business at the Site from 1966 to 2017 and abandoned the property thereafter. Under the Settlement Agreement, the Prospective Lessee agrees to perform a portion of the removal work at the Site and to pay $80,000 for EPA's oversight costs in exchange for liability protection, contribution protection, a release of any lien on the Site under CERCLA Section 107(r) or 107(l), and a covenant not to sue for existing contamination at the Site, the payment of EPA's oversight costs, or the removal work. EPA completed the removal of hazardous contamination at the site, and the Lessee will now continue with the removal of all the remaining non-hazardous debris.

DATES: The Agency will consider public comments relating to the Settlement Agreement until April 15, 2022. EPA will consider all comments received and may modify or withdraw its consent to the Settlement Agreement if comments received disclose facts or considerations that indicate it is inappropriate, improper, or inadequate.

ADDRESSES: Please contact Craig Whitenack at Whitenack.Craig@epa.gov or (213) 244-1820 to request a copy of the Settlement Agreement. Comments on the Settlement Agreement should be submitted in writing to Mr. Whitenack at Whitenack.Craig@epa.gov. Comments should reference the C-Brite Site and the EPA Docket Number for the Settlement Agreement, EPA R9-2021-06. If for any reason you are not able to submit a comment by email, please contact Mr. Whitenack at (213) 244-1820 to make alternative arrangements for submitting your comment. EPA's response to comments received may be obtained by contacting Mr. Whitenack at Whitenack.Craig@epa.gov or (213) 244-1820.

FOR FURTHER INFORMATION CONTACT: Craig Whitenack, Civil Investigator, Superfund Division, U.S. EPA Region IX, 600 Wilshire Blvd., Suite 1460, Los Angeles, CA 90017; email: Whitenack.Craig@epa.gov; phone: (213) 244-1820.

Dated: March 9, 2022.
Michael Montgomery,
Director, Superfund and Emergency Management Division, EPA Region IX.

[FR Doc. 2022-05488 Filed 3-15-22; 8:45 am]

BILLING CODE 6560-50-P